DEPARTMENT OF LABOR

Employment and Training Administration

[TA-W-73,351]

Sandy Alexander; Clifton, NJ; Notice of Affirmative Determination Regarding Application for Reconsideration

By application dated January 6, 2011, by a petitioner requested administrative reconsideration of the negative determination regarding workers' eligibility to apply for Trade Adjustment Assistance (TAA) applicable to workers and former workers of Sandy Alexander, Clifton, New Jersey (subject firm). The determination was issued on November 24, 2010. The Department's Notice of Determination was published in the Federal Register on December 8, 2010 (75 FR 76489). The workers are engaged in activities related to the production of printed materials.

The negative determination was based on the findings that the petitioning worker group did not meet the eligibility criteria set forth in the Trade Act of 1974, as amended.

In the request for reconsideration, the petitioner supplied new information regarding an alleged shift in production to China.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 21st day of January, 2011.
Del Min Amy Chen,
Certifying Officer, Office of Trade Adjustment Assistance.

[FR Doc. 2011-2239 Filed 2-1-11; 8:45 am]

BILLING CODE 4510-FN-P